DEPARTMENT OF COMMERCE

International Trade Administration

[A-428-830]

Stainless Steel Bar from Germany; Final Results of the Sunset Review of the Antidumping Duty Order

AGENCY: Import Administration, International Trade Administration, Department of Commerce.

SUMMARY: The Department of Commerce (“the Department”) has conducted a full sunset review of the antidumping duty order on stainless steel bar (“SSB”) from Germany pursuant to section 751(c) of the Tariff Act of 1930, as amended (“the Act”). As a result of this review, the Department finds that revocation of the antidumping duty order on SSB from Germany would likely lead to the continuation or recurrence of dumping.

EFFECTIVE DATE: October 5, 2007.

FOR FURTHER INFORMATION CONTACT: Audrey R. Twyman or Brandon Farlander, AD/CVD Operations, Office 1, Import Administration, International Trade Administration, U.S. Department of Commerce, 14th Street & Constitution Avenue, NW, Washington, DC, 20230; telephone: 202-482-3534 and 202-482-0182, respectively.

SUPPLEMENTARY INFORMATION:

Background

On May 30, 2007, the Department published a notice of preliminary results of the full sunset review of the antidumping duty order on SSB from Germany pursuant to section 751(c) of the Act. See Stainless Steel Bar From Germany; Preliminary Results of the Sunset Review of Antidumping Duty Order, 72 FR 29970 (May 30, 2007), as corrected in 72 FR 31660 (June 7, 2007) (“Preliminary Results”). We provided interested parties an opportunity to comment on our Preliminary Results. The Department received a case brief from BGH Edelstahl Freital GmbH, BGH Edelstahl Lippendorf GmbH, BGH Edelstahl Lugau GmbH, and BGH Edelstahl Siegen GmbH (collectively, “BGH”) on June 29, 2007, and a rebuttal brief from Carpenter Technology Corp.; North American Stainless; Crucible Specialty Metals Division of Crucible Materials Corp.; Electralloy; Outokumpu Stainless Bar, Inc.; Universal Stainless & Alloy Products, Inc.; and Valbruna Slater Stainless, Inc. (collectively, “the domestic interested parties”) on July 5, 2007. A hearing was not held because none was requested.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Analysis of Comments Received

All issues raised in this sunset review are addressed in the “Issues and Decision Memorandum for the Sunset Review of the Antidumping Duty Order on Stainless Steel Bar from Germany; Final Results,” to David M. Spooner, Assistant Secretary for Import Administration, dated October 1, 2007 (“Decision Memo”), which is hereby adopted by this notice. The issues discussed in the Decision Memo include the likelihood of continuation or recurrence of dumping and the magnitude of the margin likely to prevail if the antidumping duty order on SSB from Germany were revoked. Parties can find a complete discussion of all issues raised in this sunset review and the corresponding recommendations in this public memorandum, which is on file in room B-099 of the main Department building. In addition, a complete version of the Decision Memo can be accessed directly on the Web at http://ia.ita.doc.gov/frn/index.html. The paper copy and electronic version of the Decision Memo are identical in content.

Final Results of Review

The Department determines that revocation of the antidumping duty order on SSB from Germany is likely to lead to a continuation or recurrence of dumping at the following weighted-average margins:

Manufacturers/Producers/Exporters | Weighted-Average Margin (Percentage)
BGH Edelstahl Seigen GmbH / BGH Edelstahl Freital GmbH | 0.73
Edelstahl Witten-Krefeld GmbH | 10.82
Krupp Edelstahlprofile | 31.25
All Others | 15.16

This notice serves as a final reminder to parties subject to administrative protective order (“APO”) of their responsibility concerning the disposition of proprietary material disclosed under APO in accordance with 19 CFR 351.305. Timely notification of return/destruction of APO materials or conversion to judicial protective order is hereby requested. Failure to comply with the regulations and the terms of an APO is a sanctionable violation.

This sunset review and notice are in accordance with sections 751(c), 752(c), and 777(i)(1) of the Act.

Dated: October 1, 2007.
David M. Spooner,
Assistant Secretary for Import Administration.

[FR Doc. E7-19710 Filed 10-4-07; 8:45 am]

BILLING CODE 3510-DS-S